FEDERAL TRADE COMMISSION

Agency Information Collection Activities; Proposed Collection; Comment Request

AGENCY: Federal Trade Commission (“Commission” or “FTC”).

ACTION: Notice.

SUMMARY: The FTC intends to conduct an evaluation of Admongo, its advertising literacy program for children ages 8—12. The evaluation will involve a randomized controlled trial of the Admongo online game, using an internet panel recruited by a market research company. This research will be conducted to further the FTC's mission of protecting consumers from unfair and deceptive marketing. We will consider comments on this proposed research before submitting a request for Office of Management and Budget (OMB) review under the Paperwork Reduction Act (PRA).

DATES: Comments must be submitted on or before May 2, 2014.

ADDRESSES: Interested parties may file a comment online or on paper, by following the instructions in the Request for Comment part of the SUPPLEMENTARY INFORMATION section below. Write “Admongo Evaluation, FTC File No. P085200” on your comment, and file your comment online at https://ftcpublic.commentworks.com/ftc/admongoevaluationpra, by following the instructions on the web-based form. If you prefer to file your comment on paper, mail or deliver your comment to the following address: Federal Trade Commission, Office of the Secretary, Room H-113 (Annex J), 600 Pennsylvania Avenue NW., Washington, DC 20580.

FOR FURTHER INFORMATION CONTACT: David Givens, Economist, Bureau of Economics, Federal Trade Commission, 600 Pennsylvania Avenue NW., Mail Stop NJ-4136, Washington, DC 20580. Telephone: (202) 326-3397.

SUPPLEMENTARY INFORMATION:

I. Background

As the nation's consumer protection agency, the FTC is responsible for enforcing laws that prohibit unfair and deceptive advertising and marketing practices. Part of this mission involves educating consumers, including young consumers. In April 2010, the FTC launched a youth-directed multi-media advertising literacy campaign called Admongo and distributed accompanying lesson plans to 100,000 educators in every U.S. public school with a fifth or sixth grade class. The Admongo program aims to help children from 8 to 12 become more discerning consumers of information. The program has three broad objectives: (1) Raising awareness of advertising and marketing messages; (2) teaching critical thinking skills that will help children analyze and interpret advertisements; and (3) demonstrating the benefits of being an informed consumer. The program is designed to teach students specific skills: how to identify ads, how to identify the ways advertisers target certain groups of consumers, how to spot persuasive techniques commonly employed by ads, and how to apply an understanding of advertising techniques to make smarter purchases. The campaign includes an online game, in-school lesson plans, training videos for teachers, and sample ads that can be used at home and in the classroom.

The public can utilize individual components of Admongo as desired, or alternatively, schools can integrate all the components to build a cohesive unit on advertising literacy. All materials are free and can be viewed at www.admongo.gov.

The proposed evaluation is designed to assess the impact of the Admongo online game. The game is an interactive teaching tool in which players advance levels by mastering progressively more sophisticated topics in advertising. Players start by identifying ads, including logos and product placement; they advance to learning about the elements of advertising (graphics, copy, video and audio) and then how ads are targeted. The game culminates in players creating their own video ad to target a specific audience.

The proposed evaluation seeks to measure the effect of playing the Admongo game on a child's level of advertising literacy, as measured by a test specially written for this purpose by FTC staff. The online game is the one component of the Admongo program that children can most easily discover, engage with, and learn from on their own. The FTC would like to evaluate the effectiveness of the online game. Cost effectiveness data will enable FTC staff to evaluate both this program and the potential use of other similar programs in the future. The FTC is particularly interested in the effect of game play on the ability to interpret real ads (i.e., to differentiate explicit and implied claims, to identify particular persuasive techniques and understand why they were chosen, etc.), as well as the ways in which this effect varies by age and other family and demographic characteristics.

II. Paperwork Reduction Act

Under the PRA, 44 U.S.C. 3501-3521, federal agencies must obtain approval (“clearance”) from OMB for each collection of information they conduct or sponsor. “Collection of information” includes disclosure to an agency, third parties, or the public of information by or for an agency through identical questions posed to, or identical reporting, recordkeeping, or disclosure requirements imposed on, ten or more persons. 44 U.S.C. 3502(3)(A). As required by section 3506(c)(2)(A) of the PRA, the FTC is providing an opportunity for public comment before seeking OMB clearance for the information collections presented here.

The FTC invites comments on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information.

A. Description of the collection of information and proposed use

Subject to OMB approval, the FTC will conduct a randomized trial of the Admongo online game, involving 800 students, ages 8-12. A market research contractor will select students for participation from among its existing panelists. Students must have parental permission to participate in the evaluation. A randomly selected half of the participants will be assigned to a treatment group, and the remaining students will be assigned to a control group.

Treatment students will be instructed to play the Admongo online game from their homes for one hour and then to complete an advertising literacy test (also online) within the allotted time (20 minutes). To ensure that each treatment student's true exposure to the game is accurately recorded, her time spent playing (and other measures of her performance within the game) will be monitored and logged by the game's server. Control students will be instructed to take the test without playing the Admongo game. To ensure that control group members do not play the game, no mention will be made to these students about the existence of Admongo or its connection to the test they are instructed to take. To further ensure the integrity of the evaluation, the market research company will screen out any panelist who has been exposed to Admongo prior to this study.

Admongo's effect on ad literacy will be estimated from the difference in test scores between the control and treatment groups. Additional variables measuring demographic, financial, and family characteristics of the students, to the extent this information can be captured through a screening questionnaire that is administered to participants' parents, will increase the precision of the estimate of Admongo's impact and also will reveal the influence of these factors on ad literacy.

The sample will be selected to mirror the 8-12 year-old U.S. population along a number of observable dimensions. However, because participation in the study is voluntary, the sample may suffer from selection bias and may not constitute a nationally representative sample of 8-12 year-old American children. Therefore, the estimate of Admongo's impact, derived from this sample, will not generalize to the broader audience of all 8-12 year-old Americans.

B. Estimated Burden Hours

The proposed evaluation will involve 800 students ages 8-12. The half of the sample assigned to the treatment group will play the Admongo online game for one hour and then take a 20-minute advertising literacy test immediately afterwards. The time burden for the treatment-group totals 533 hours. The half of the sample assigned to the control group will take the quiz without playing the game. The time burden for the control group will be only the time required to take the test—133 hours in total. Finally, a parent of each participating student will be asked to complete a screening questionnaire, estimated to take 5 minutes. The aggregate time burden from the questionnaire totals 67 hours. Therefore, the total time burden for all participants equals 733 hours.

C. Estimated Costs

The costs to respondents involve only the time cost of playing the Admongo online game and/or taking the online advertising literacy test. Participation in the evaluation is voluntary; respondents are drawn from existing pools of internet panelists (i.e., households that have already indicated they are willing and able to take part in internet research), and participants and their parents are free to refuse the invitation to participate in any particular study. All students (or their parents) will be compensated at the standard rate by the market research company that recruits them and runs the experiment. Treatment-group students are expected to be compensated more than control-group students due to the former group's substantially larger time commitment.

D. Request For Comment

You can file a comment online or on paper. For the Commission to consider your comment, we must receive it on or before May 2, 2014. Write “Admongo Evaluation, FTC File No. P085200” on your comment. Your comment, including your name and your state, will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which . . . is privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).¹ Your comment will be kept confidential only if the FTC General Counsel grants your request in accordance with the law and the public interest.

¹ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at http://ftcpublic.commentworks.com/ftc/admongoevaluationpra, by following the instructions on the web-based form. If this Notice appears at http://www.regulations.gov/#home, you also may file a comment through that Web site.

If you file your comment on paper, write “Admongo Evaluation, FTC File No. P085200” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before May 2, 2014. You can find more information, including routine uses permitted by the Privacy Act, in the Commission's privacy policy, at http://www.ftc.gov/ftc/privacy.htm.

By direction of the Commission.
Janice Podoll Frankle,
Acting Secretary.

[FR Doc. 2014-04566 Filed 2-28-14; 8:45 am]

BILLING CODE 6750-01-P